Title 3—

The President

Memorandum of February 5, 2007

Assignment of Functions Under Section 556 of the John

Warner National Defense Authorization Act for Fiscal Year 2007

Memorandum for the Secretary of Defense

By the authority vested in me as President by the Constitution and laws of the United States, including section 301 of title 3, United States Code, I hereby assign to you the functions of the President under section 556 of the John Warner National Defense Authorization Act for Fiscal Year 2007 (Public Law 109-364).

You are authorized and directed to publish this memorandum in the Federal Register.

THE WHITE HOUSE,

Washington, February 5, 2007.

[FR Doc. 07-697

Filed 2-12-07; 11:11 am]

Billing code 5000-04-M